DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on January 1, 2024, through January 31, 2024. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 08W-25A, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Brian Sheehan, Fort Wayne, Indiana, Court of Federal Claims No: 24-0001V

2. Melissa Wolfson, Katy, Texas, Court of Federal Claims No: 24-0002V

3. Alexis Collins, Lafayette, Louisiana, Court of Federal Claims No: 24-0003V

4. Rochelle McCullough, Evans, Georgia, Court of Federal Claims No: 24-0004V

5. Jessica Moya, Queen Creek, Arizona, Court of Federal Claims No: 24-0005V

6. Victoria Hedler, Grand Junction, Colorado, Court of Federal Claims No: 24-0006V

7. Andrew Farris, Union Gap, Washington, Court of Federal Claims No: 24-0007V

8. Gregory Williams, Philadelphia, Pennsylvania, Court of Federal Claims No: 24-0008V

9. Diane Jeffers, Columbus, Ohio, Court of Federal Claims No: 24-0009V

10. Cassandra Immele, Sioux City, Iowa, Court of Federal Claims No: 24-0011V

11. Meridith Juliano on behalf of M.J., Phoenix, Arizona, Court of Federal Claims No: 24-0012V

12. Terry Cristell, Margate, Florida, Court of Federal Claims No: 24-0013V

13. Kadri Limani on behalf of A.L., Henderson, Nevada, Court of Federal Claims No: 24-0015V

14. Melissa Arcement, Stuart, Florida, Court of Federal Claims No: 24-0017V

15. Pamela Moore, Parkville, Missouri, Court of Federal Claims No: 24-0018V

16. Elizabeth Graziano on behalf of S.G., Columbia, Kentucky, Court of Federal Claims No: 24-0019V

17. Steven Arbegast, Milledgeville, Georgia, Court of Federal Claims No: 24-0020V

18. Thomas Lane, Monroe, North Carolina, Court of Federal Claims No: 24-0026V

19. Gail Norman, Las Vegas, Nevada, Court of Federal Claims No: 24-0027V

20. Elizabeth J. Beaupain on behalf of A.B., North Plains, Oregon, Court of Federal Claims No: 24-0028V

21. Elizabeth Neathery, Pueblo, Colorado, Court of Federal Claims No: 24-0029V

22. Christine Gaige on behalf of S.C.G., Rochester, New York, Court of Federal Claims No: 24-0030V

23. Aisha Gonzalez, West Covina, California, Court of Federal Claims No: 24-0032V

24. Grace Willis, Eastsound, Washington, Court of Federal Claims No: 24-0034V

25. Jeffrey Witcher, Montgomery, Alabama, Court of Federal Claims No: 24-0035V

26. Vera Dailey, Dresher, Pennsylvania, Court of Federal Claims No: 24-0036V

27. Barbara Bisceglia, West Harrison, New York, Court of Federal Claims No: 24-0037V

28. Michele Romano, Montvale, New Jersey, Court of Federal Claims No: 24-0040V

29. Andrew Bublitz, Charlotte, North Carolina, Court of Federal Claims No: 24-0041V

30. Jesse Wayson, Boston, Massachusetts, Court of Federal Claims No: 24-0042V

31. China Cummings on behalf of K.C., Francisville, Louisiana, Court of Federal Claims No: 24-0045V

32. Diego Antonio Osorno Gomez, Miami, Florida, Court of Federal Claims No: 24-0047V

33. Kristy Sipe, Dekalb, Illinois, Court of Federal Claims No: 24-0050V

34. Lynda Fields, Lynn, Massachusetts, Court of Federal Claims No: 24-0051V

35. Roberto Rivera, Milwaukee, Wisconsin, Court of Federal Claims No: 24-0052V

36. Alan Young, Gulfport, Mississippi, Court of Federal Claims No: 24-0054V

37. Anita Lawson, Sevierville, Tennessee, Court of Federal Claims No: 24-0056V

38. Jean LoPresto, Staten Island, New York, Court of Federal Claims No: 24-0057V

39. Melissa Huntingdon, Southbridge, Massachusetts, Court of Federal Claims No: 24-0058V

40. Heather Turicchi, Katy, Texas, Court of Federal Claims No: 24-0059V

41. Amanda Connor, Fort Lauderdale, Florida, Court of Federal Claims No: 24-0060V

42. Marcella Dotter, Largo, Florida, Court of Federal Claims No: 24-0061V

43. Gail Zakraysek, Cape Coral, Florida, Court of Federal Claims No: 24-0062V

44. Jessica Best, Rhinebeck, New York, Court of Federal Claims No: 24-0064V

45. Lenzie Buller, Plaquemine, Louisiana, Court of Federal Claims No: 24-0065V

46. Robert Bolin, St. Joseph, Missouri, Court of Federal Claims No: 24-0068V

47. Nico Bisschop, Miami Beach, Florida, Court of Federal Claims No: 24-0069V

48. Thomas Dido, Sr., Rutland, Vermont, Court of Federal Claims No: 24-0070V

49. Jenny Argueta, Brockton, Massachusetts, Court of Federal Claims No: 24-0072V

50. Kimberly Glomboski, Scranton, Pennsylvania, Court of Federal Claims No: 24-0073V

51. Jay Hill, Mountain Home, Tennessee, Court of Federal Claims No: 24-0076V

52. Jacob Grim and Jordan Grim on behalf of N.G., Boston, Massachusetts, Court of Federal Claims No: 24-0077V

53. Jessye Reed, Newark, Delaware, Court of Federal Claims No: 24-0078V

54. Dominique Williams on behalf of A.I.W., Cypresswood, Texas, Court of Federal Claims No: 24-0080V

55. John Victor, Alpharetta, Georgia, Court of Federal Claims No: 24-0086V

56. Alex Langhart, Longmont, California, Court of Federal Claims No: 24-0087V

57. Ellis Z. Stephens, Grafton, Wisconsin, Court of Federal Claims No: 24-0088V

58. Inez Tann, Conyers, Georgia, Court of Federal Claims No: 24-0089V

59. Erica Faunce, Fairway, Kansas, Court of Federal Claims No: 24-0092V

60. Mario Longobardi, Buffalo Grove, Illinois, Court of Federal Claims No: 24-0093V

61. Mark Hopkins, Rexburg, Idaho, Court of Federal Claims No: 24-0095V

62. Rosalyn Woolfolk, Atlanta, Georgia, Court of Federal Claims No: 24-0096V

63. Cameron Authement, Plaquemine, Louisiana, Court of Federal Claims No: 24-0099V

64. Kosmos Robson on behalf of L.D., Los Angeles, California, Court of Federal Claims No: 24-0101V

65. Kosmos Robson on behalf of L.D., Los Angeles, California, Court of Federal Claims No: 24-0102V

66. Marta Eriksson on behalf of V.L., Plaquemine, Louisiana, Court of Federal Claims No: 24-0104V

67. Chinyere Iwuagwu, Sacramento, California, Court of Federal Claims No: 24-0105V

68. Gayle Mitchell, Adrian, Michigan, Court of Federal Claims No: 24-0106V

69. Andrea Papadopoulos, Birmingham, Michigan, Court of Federal Claims No: 24-0109V

70. Michael J. Thompson, Keego Harbor, Michigan, Court of Federal Claims No: 24-0110V

71. Lauren Werkmeister, Greensboro, North Carolina, Court of Federal Claims No: 24-0111V

72. Stacey Hildebrand, O'Fallon, Missouri, Court of Federal Claims No: 24-0113V

73. Steven W. Howard, Centralia, Illinois, Court of Federal Claims No: 24-0114V

74. Juli-Rae Reeves on behalf of N.J.R., Richmond, Virginia, Court of Federal Claims No: 24-0115V

75. Theodore Hand, Dresher, Pennsylvania, Court of Federal Claims No: 24-0116V

76. Judith Moran, Atlanta, Georgia, Court of Federal Claims No: 24-0117V

77. Terry Wald and Erica Wald on behalf of A.W., Boston, Massachusetts, Court of Federal Claims No: 24-0119V

78. Glenda Stowell, Portland, Oregon, Court of Federal Claims No: 24-0120V

79. Maria Salcedo, Chicago, Illinois, Court of Federal Claims No: 24-0121V

80. Wendy Mores on behalf of Noelle Cole, Washington, District of Columbia, Court of Federal Claims No: 24-0122V

81. Michael Roberts, Los Gatos, California, Court of Federal Claims No: 24-0123V

82. Adam Kasper, Greeley, Colorado, Court of Federal Claims No: 24-0124V

83. Michelle Sosa-Beard, Los Angeles, California, Court of Federal Claims No: 24-0125V

84. Peggy Lynn Romero, Arlington, Massachusetts, Court of Federal Claims No: 24-0127V

85. Joshua Gregg, Sarasota, Florida, Court of Federal Claims No: 24-0128V

86. Brooke Wood, Apple Valley, Minnesota, Court of Federal Claims No: 24-0130V

87. Jeanne Vasilakis, Boston, Massachusetts, Court of Federal Claims No: 24-0132V

88. Paula Jolly, Louisville, Kentucky, Court of Federal Claims No: 24-0133V

89. Tracy Gordon, Vacaville, California, Court of Federal Claims No: 24-0134V

90. Gary Larson, Lafayette, Colorado, Court of Federal Claims No: 24-0135V

91. Andrew Monroe, Savannah, Georgia, Court of Federal Claims No: 24-0136V

92. Robert Hightower, Crystal, Minnesota, Court of Federal Claims No: 24-0137V

93. Handson Bota, Boston, Massachusetts, Court of Federal Claims No: 24-0138V

94. Jason Manus, Teterboro, New Jersey, Court of Federal Claims No: 24-0140V

95. Alice Keenan, Holland, Pennsylvania, Court of Federal Claims No: 24-0141V

96. Karina A. Then, Providence, Rhode Island, Court of Federal Claims No: 24-0142V

97. Valerie Parker, Columbus, Ohio, Court of Federal Claims No: 24-0143V

98. Kristen McLaughlin, Universal City, California, Court of Federal Claims No: 24-0147V

99. Jaquel E. Simmons, Waupun, Wisconsin, Court of Federal Claims No: 24-0148V

100. Melissa French, Covington, Kentucky, Court of Federal Claims No: 24-0149V

101. Lisa Regina Vandenberg, Elmwood Park, New Jersey, Court of Federal Claims No: 24-0150V

102. Briana N. Gonzalez on behalf of L. G., Deceased, Aventura, Florida, Court of Federal Claims No: 24-0153V

103. Andrea Flynn, Chapel Hill, North Carolina, Court of Federal Claims No: 24-0154V

104. Stepfanie Allstead, Elk Grove, California, Court of Federal Claims No: 24-0156V

105. Debbie Loyim, New York, New York, Court of Federal Claims No: 24-0158V

106. Christina Moser, Woodbridge, Virginia, Court of Federal Claims No: 24-0159V

107. Destiny Ramos on behalf of Y. G. G., Deceased, New York, New York, Court of Federal Claims No: 24-0161V

108. Jamie Mize on behalf of R. P., Deceased, Oakland, California, Court of Federal Claims No: 24-0163V

[FR Doc. 2024-04140 Filed 2-27-24; 8:45 am]

BILLING CODE 4165-15-P